DEPARTMENT OF THE INTERIOR

Bureau of Indian Affairs

List of Additional Lands Affected by White Earth Reservation Land Settlement Act of 1985

AGENCY: Bureau of Indian Affairs, Interior.

ACTION: Notice.

SUMMARY: This notice lists additional allotments or interest therein on the White Earth Chippewa Reservation in Minnesota which have been determined to fall within the scope of sections 4(a), 4(b), or 5(c) of the White Earth Reservation Land Settlement Act of 1985 (the Act). This notice is required by section 7(e) of the Act, as amended.

FOR FURTHER INFORMATION CONTACT: Robert Lintelmann, Acting Superintendent, Minnesota Agency, Bureau of Indian Affairs, 522 Minnesota Ave., NW., Bemidji, Minnesota 56601, Telephone (218) 751-2011.

SUPPLEMENTARY INFORMATION: The White Earth Reservation Land Settlement Act of 1985, Public Law 99-264 (100 Stat. 61) as amended by Public Law 100-153 (101 Stat. 886), Public Law 100-212 (101 Stat. 1433), and Public Law 101-301 (104 Stat. 210), provides for alternative methods of resolving disputes relative to the title to certain allotments for which trust patents were issued to White Earth Chippewa Indians. Sections 4(a) and 4(b) of the Act define circumstances by which the title to an allotment may have been taken or transferred through a questionable means during the trust period. The Act authorizes the Secretary of the Interior to: (1) Identify the allotments or interest therein which were taken or transferred under identified circumstances, (2) determine the individuals entitled to compensation pursuant to the Act, and (3) ascertain the amount of compensation to which each such individual is entitled. In addition, section 5(c) of the Act provides that the White Earth Band of Chippewa Indians shall be compensated for allotments which were granted to individuals who had died prior to the selection dates of their respective allotments.

Under section 8(a) of the Act, the compensation for the taking or transfer of an allotment or interest is to be based on the fair market value of the allotment or interest therein as of the date of such taking or transfer, less any consideration actually received at the time. The compensation to be paid under the Act shall include interest compounded annually at 5 percent from the date of the questionable taking or transfer, until March 24, 1986, and at the general rate of interest earned by Department of the Interior funds thereafter. The Secretary is authorized to issue written notices of compensation determination to the allottees or heirs entitled thereto. Such notice shall describe the basis for the Secretary's determination, the process by which such compensation was determined, the method of payment, and the applicable time limits for judicial review of the determination. Any individual who has already elected to file suit in the Federal District Court for the District of Minnesota to seek the recovery of title to an allotment or interest therein, or damages, is barred under section 6(c) from receiving any compensation under the Act.

The Secretary was authorized, pursuant to section 7(a) of the Act, to publish a first list of allotments or interests that fall within the provisions of sections 4(a), 4(b), or 5(c) of the Act. The first list of allotments and interests affected by the Act was published in the Federal Register on September 19, 1986. The Secretary was also authorized, pursuant to section 7(c) of the Act, to publish a second list of allotments and interests affected by the Act, including additions to those appearing on the first list. The amendment contained in Public Law 100-212 authorized the Secretary to include and publish, as part of the second list, corrections to the first list. The list published in the Federal Register on March 10, 1989, corrected the September 19, 1986, publication. The March 10, 1989 publication did not contain tracts or/and interests that had been determined by the Department of the Interior to be outside the provisions of sections 4(a), 4(b), or 5(c) of the Act.

The Secretary is also authorized, at any time, pursuant to section 7(e)(1) of the Act, as amended, to add allotments or interests to the second list if the Secretary determined that the additional allotments or interests fall within the provisions of sections 4(a), 4(b), or 5(c). The first list of such additions was published in the Federal Register on March 27, 1991 (56 FR 12818). Since that time, two more lists of additions have been published. Those were published on April 11, 1994 (59 FR 17174), and on January 13, 2005 (70 FR 2423.) The list included herein contains more additions.

The list describes additional allotments and interests whether the takings or transfers apply to the allottees or the heirs of inherited interests. The lists characterized in the September 19, 1986, and March 10, 1989, publications as those of Partial Interests are no longer being published. All allotments and interests determined by the Secretary to be affected by sections 4(a), 4(b), or 5(c) of the Act are contained in what had been characterized as the Master List in previous publications and in this addition. Some of the allotments contained on the list included herein may represent partial interests only.

The inclusion of an allotment or interest on this list may be judicially reviewed pursuant to the provisions of the Administrative Procedure Act, 5 U.S.C. 701, et seq. Any such action must be filed in Federal District Court for the District of Minnesota and shall be barred unless it is filed within 90 calendar days of this publication.

This notice is published in the exercise of authority delegated by the Secretary of the Interior to the Assistant Secretary—Indian Affairs by 209 DM 8.

Dated: July 15, 2011.
Paul Tsosie,
Chief of Staff, Assistant Secretary—Indian Affairs.

Instruction Sheet

Each questionable taking or transfer has been assigned a 10-, 11-, or 12-character Issue Number. In every instance, the first six characters, F53408, are identical and denote the Midwest Regional Office, Minnesota Agency and White Earth Indian Reservation. The last four, five or six characters identify the specific taking or transfer. The list contains information regarding allotments and inherited interests, in addition to those listed in previous publications, affected by the Act, including the following subheadings:

Issue No.: The 10-, 11- or 12-character number, explained above, which identifies the Regional Office, Agency, Reservation and specific taking or transfer affected by the Act. Where there are multiple tracts of land, there has occasionally been the need to add one or more letters to the Issue Number in order to distinguish among such tracts. Also, where a tract of land has been the subject of multiple takings or transfers by interest holders, letters have been added to the Issue Number to distinguish between such takings and transfers.

Allot. No.: The number assigned, at the time of the allotment selection, to the allotment comprising the tract of land which was involved in the taking or transfer. Many White Earth allottees, after receiving an original allotment, were also granted an additional allotment, with different numbers assigned to each. To distinguish between the two allotments, the allotment numbers are preceded by the letter O (Original Allotment) or A (Additional Allotment).

CO: The county in which the tract involved in the taking or transfer is located. These are identified as Becker (B), Clearwater (C) or Mahnomen (M) County.

Legal Sub, SEC, TWP, and RNG: The legal description of the tract which is involved with the taking or transfer by legal Subdivision and Section (SEC), Township (TWP) and Range (RNG) numbers. Where a metes and bounds description is required for the legal subdivision, it is described as MB (Metes and Bounds). Further information concerning such tracts can be obtained from the WELSA Project Office in Bemidji, Minnesota.

English Name: All known English names of the allottees, including given name, middle initial, middle name, maiden name, married name, and other English names which have been identified for the allottee.

Ojibway Name: The name of the allottee in Ojibway, the native language of the White Earth Band of the White Earth Band of Chippewa Indians. The names are shown with phonetic spellings.

Tracts which fall within the provisions of section 5(c) of the Act where the claimant is the White Earth Band appear on the list with the White Earth Band listed under the sub-heading of English Name.

Three tracts listed separately were published in the January 13, 2005, list with incorrect legal descriptions. They are now listed with corrected legal descriptions.

If you wish further information about allotments or interests therein which are contained in this list, call or write the WELSA Project office in care of the Bureau of Indian Affairs. The address and telephone number are indicated in the FOR FURTHER INFORMATION CONTACT section of this document. Be sure to include the complete Issue Number in any correspondence with the Bureau of Indian Affairs.

List of Additional Lands Affected by the White Earth Reservation Land Settlement Act of 1985
Issue No. | Allot. No. | CO | Legal Sub | SEC | TWP | RNG | English name | Ojibwe name
F53-408-0003A | A-0640 | C | E2NW | 34 | 144 | 38 | Peter Parker |
| 0-0819
F53-408-0137C | 0-3358 | M | LOT2&SESW | 16 | 143 | 40 |  | Naytahwubequay.
F53-408-0860 | 0-3835 | B | LOTS 7 &8 | 4 | 142 | 40 |  | Moonze.
F53-408-0860A | 0-3835 | B | LOTS 7 &8 | 4 | 142 | 40 |  | Moonze.
F53-408-1103E | A-2040 | M | NWNE | 11 | 146 | 40 | Mary Hutchinson |
| 0-3621 |  |  |  |  |  |  |
F53-408-1124A | 0-3876 | B | SENW &LOT2 | 19 | 142 | 41 |  | Pugonay.
F53-408-1229 | 0-3988 | B | NESE | 14 | 142 | 42 | Eva Sloan |
|  |  | NWSW | 13 | 142 | 42 |  |
F53-408-1286 | A-2325 | M | LOT3 | 7 | 145 | 41 | James Quist | Paymwaywaygwonabe.
| 0-4712 |  | W2NESW | 7 | 145 | 41 |  |
|  |  | W2E2NESW | 7 | 145 | 41 |  |
F-53-408-1286A | 0-4712 | B | LOT 1 | 8 | 142 | 37 | James Quist | Paymwaywaygwonabe.
|  |  | LOT2 | 9 | 142 | 37 |  |
|  |  | NWSW | 2 | 142 | 37
F53-408-1850 | 0-4443 | B | LOT8 | 30 | 141 | 42 | Charles H. Beaulieu |
F53-408-1850B | 0-3321 | B | NWNW (LOT 5) | 30 | 141 | 42 | Charles H. Beaulieu |
F53-408-2158 | 0-1673 | M | S2SENW | 4 | 145 | 40 | Margaret Bonnin |
F53-408-2158B | 0-1673 | M | North 19.12 acres of Lot 3 | 4 | 145 | 40 | Margaret Bonnin |
F53-408-2190 | A-3050 | C | E2NW | 10 | 144 | 38 |  | Nahwahcumigoquay.
F53-408-2190A | A-3050 | C | E2NW | 10 | 144 | 38 |  | Nahwahcumigoquay.
| (0-4002) |  |  |  |  |  |  |
F53-408-2191 | 0-3314 | M | E2NE | 25 | 144 | 42 | Gregory Marchand | Mekenauk.
F53-408-2192 | A-1824 | B | LOT3&SENW | 1 | 142 | 37 | Julia Potter | Pedwaywaygeshigoke.
| (0-2505)
Republished with corrected legal descriptions
F53-408-0968 | 0-4682 | M | NWSW | 13 | 145 | 40 | John/Charles LaRose | Ominwaywaygeshig.
|  |  | NESE | 14 | 145 | 40
F53-408-0968D | A-2298 | M | E2SW | 12 | 145 | 40 | John/Charles LaRose | Ominwaywaygeshig.
F53-408-0995 | 0-3455 | M | NESW&SENW | 16 | 143 | 39 | Viola Snider Saign.

[FR Doc. 2011-18434 Filed 7-20-11; 8:45 am]

BILLING CODE 4310-W7-P